DEPARTMENT OF HOMELAND SECURITY

Federal Emergency Management Agency

44 CFR Part 64

[Docket ID FEMA-2012-0003; Internal Agency Docket No. FEMA-8223]

Suspension of Community Eligibility

AGENCY: Federal Emergency Management Agency, DHS.

ACTION: Final rule.

SUMMARY: This rule identifies communities where the sale of flood insurance has been authorized under the National Flood Insurance Program (NFIP) that are scheduled for suspension on the effective dates listed within this rule because of noncompliance with the floodplain management requirements of the program. If the Federal Emergency Management Agency (FEMA) receives documentation that the community has adopted the required floodplain management measures prior to the effective suspension date given in this rule, the suspension will not occur and a notice of this will be provided by publication in the Federal Register on a subsequent date.

DATES: Effective Dates: The effective date of each community's scheduled suspension is the third date (“Susp.”) listed in the third column of the following tables.

FOR FURTHER INFORMATION CONTACT: If you want to determine whether a particular community was suspended on the suspension date or for further information, contact David Stearrett, Federal Insurance and Mitigation Administration, Federal Emergency Management Agency, 500 C Street SW., Washington, DC 20472, (202) 646-2953.

SUPPLEMENTARY INFORMATION: The NFIP enables property owners to purchase Federal flood insurance that is not otherwise generally available from private insurers. In return, communities agree to adopt and administer local floodplain management aimed at protecting lives and new construction from future flooding. Section 1315 of the National Flood Insurance Act of 1968, as amended, 42 U.S.C. 4022, prohibits the sale of NFIP flood insurance unless an appropriate public body adopts adequate floodplain management measures with effective enforcement measures. The communities listed in this document no longer meet that statutory requirement for compliance with program regulations, 44 CFR part 59. Accordingly, the communities will be suspended on the effective date in the third column. As of that date, flood insurance will no longer be available in the community. We recognize that some of these communities may adopt and submit the required documentation of legally enforceable floodplain management measures after this rule is published but prior to the actual suspension date. These communities will not be suspended and will continue their eligibility for the sale of insurance. A notice withdrawing the suspension of the communities will be published in the Federal Register.

In addition, FEMA publishes a Flood Insurance Rate Map (FIRM) that identifies the Special Flood Hazard Areas (SFHAs) in these communities. The date of the FIRM, if one has been published, is indicated in the fourth column of the table. No direct Federal financial assistance (except assistance pursuant to the Robert T. Stafford Disaster Relief and Emergency Assistance Act not in connection with a flood) may be provided for construction or acquisition of buildings in identified SFHAs for communities not participating in the NFIP and identified for more than a year on FEMA's initial FIRM for the community as having flood-prone areas (section 202(a) of the Flood Disaster Protection Act of 1973, 42 U.S.C. 4106(a), as amended). This prohibition against certain types of Federal assistance becomes effective for the communities listed on the date shown in the last column. The Administrator finds that notice and public comment under 5 U.S.C. 553(b) are impracticable and unnecessary because communities listed in this final rule have been adequately notified.

Each community receives 6-month, 90-day, and 30-day notification letters addressed to the Chief Executive Officer stating that the community will be suspended unless the required floodplain management measures are met prior to the effective suspension date. Since these notifications were made, this final rule may take effect within less than 30 days.

National Environmental Policy Act. This rule is categorically excluded from the requirements of 44 CFR part 10, Environmental Considerations. No environmental impact assessment has been prepared.

Regulatory Flexibility Act. The Administrator has determined that this rule is exempt from the requirements of the Regulatory Flexibility Act because the National Flood Insurance Act of 1968, as amended, 42 U.S.C. 4022, prohibits flood insurance coverage unless an appropriate public body adopts adequate floodplain management measures with effective enforcement measures. The communities listed no longer comply with the statutory requirements, and after the effective date, flood insurance will no longer be available in the communities unless remedial action takes place.

Regulatory Classification. This final rule is not a significant regulatory action under the criteria of section 3(f) of Executive Order 12866 of September 30, 1993, Regulatory Planning and Review, 58 FR 51735.

Executive Order 13132, Federalism. This rule involves no policies that have federalism implications under Executive Order 13132.

Executive Order 12988, Civil Justice Reform. This rule meets the applicable standards of Executive Order 12988.

Paperwork Reduction Act. This rule does not involve any collection of information for purposes of the Paperwork Reduction Act, 44 U.S.C. 3501 et seq.

List of Subjects in 44 CFR Part 64

Flood insurance, Floodplains.

Accordingly, 44 CFR part 64 is amended as follows:

PART 64—[AMENDED]

1. The authority citation for part 64 continues to read as follows:

Authority: 42 U.S.C. 4001 et seq.; Reorganization Plan No. 3 of 1978, 3 CFR, 1978 Comp.; p. 329; E.O. 12127, 44 FR 19367, 3 CFR, 1979 Comp.; p. 376.

§ 64.6 [Amended]

2. The tables published under the authority of § 64.6 are amended as follows:

State and location | Community No. | Effective date authorization/cancellation of sale of flood insurance in community | Current effective map date | Date certain Federal assistance no longer available in SFHAs
Region III
Pennsylvania:
Armstrong, Township of, Indiana County | 421708 | July 7, 1975, Emerg; April 16, 1990, Reg; April 3, 2012, Susp. | April 3, 2012 | April 3, 2012.
Banks, Township of, Indiana County | 422435 | October 16, 1981, Emerg; September 10, 1984, Reg; April 3, 2012, Susp. | *......do | Do.
Black Lick, Township of, Indiana County | 421709 | March 1, 1977, Emerg; August 19, 1986, Reg; April 3, 2012, Susp. | ......do | Do.
Blairsville, Borough of, Indiana County | 420495 | June 2, 1976, Emerg; June 5, 1985, Reg; April 3, 2012, Susp. | ......do | Do.
Brush Valley, Township of, Indiana County | 421710 | March 23, 1977, Emerg; August 19, 1986, Reg; April 3, 2012, Susp. | ......do | Do.
Burrell, Township of, Indiana County | 421213 | December 4, 1975, Emerg; August 19, 1986, Reg; April 3, 2012, Susp. | ......do | Do.
Canoe, Township of, Indiana County | 421713 | February 18, 1977, Emerg; August 1, 1986, Reg; April 3, 2012, Susp. | ......do | Do.
Center, Township of, Indiana County | 420496 | August 22, 1973, Emerg; February 15, 1978, Reg; April 3, 2012, Susp. | ......do | Do.
Cherry Tree, Borough of, Indiana County | 420497 | April 29, 1975, Emerg; June 17, 1986, Reg; April 3, 2012, Susp. | ......do | Do.
Cherryhill, Township of, Indiana County | 421714 | April 8, 1976, Emerg; April 1, 1986, Reg; April 3, 2012, Susp. | ......do | Do.
Clymer, Borough of, Indiana County | 420498 | January 15, 1974, Emerg; September 15, 1977, Reg; April 3, 2012, Susp. | ......do | Do.
Conemaugh, Township of, Indiana County | 421715 | November 18, 1985, Emerg; June 17, 1986, Reg; April 3, 2012, Susp. | ......do | Do.
Creekside, Borough of, Indiana County | 420499 | September 10, 1975, Emerg; December 5, 1989, Reg; April 3, 2012, Susp. | ......do | Do.
East Mahoning, Township of, Indiana County | 422436 | March 16, 1977, Emerg; August 1, 1986, Reg; April 3, 2012, Susp. | ......do | Do.
East Wheatfield, Township of, Indiana County | 421716 | March 7, 1977, Emerg; August 2, 1990, Reg; April 3, 2012, Susp. | ......do | Do.
Grant, Township of, Indiana County | 421717 | May 22, 1981, Emerg; August 1, 1986, Reg; April 3, 2012, Susp. | ......do | Do.
Green, Township of, Indiana County | 421718 | February 18, 1976, Emerg; December 5, 1989, Reg; April 3, 2012, Susp. | ......do | Do.
Homer City, Borough of, Indiana County | 420500 | April 5, 1973, Emerg; September 30, 1977, Reg; April 3, 2012, Susp. | ......do | Do.
Indiana, Borough of, Indiana County | 420501 | January 27, 1977, Emerg; May 19, 1987, Reg; April 3, 2012, Susp. | ......do | Do.
Marion Center, Borough of, Indiana County | 420503 | September 29, 1975, Emerg; September 1, 1986, Reg; April 3, 2012, Susp. | ......do | Do.
Montgomery, Township of, Indiana County | 421719 | May 16, 1979, Emerg; August 1, 1986, Reg; April 3, 2012, Susp. | ......do | Do.
North Mahoning, Township of, Indiana County | 422438 | April 25, 1977, Emerg; September 24, 1984, Reg; April 3, 2012, Susp. | ......do | Do.
Pine, Township of, Indiana County | 421720 | October 4, 1977, Emerg; March 1, 1986, Reg; April 3, 2012, Susp. | ......do | Do.
Plumville, Borough of, Indiana County | 420504 | March 21, 1977, Emerg; September 24, 1984, Reg; April 3, 2012, Susp. | ......do | Do.
Rayne, Township of, Indiana County | 421721 | March 22, 1977, Emerg; August 1, 1986, Reg; April 3, 2012, Susp. | ......do | Do.
Saltsburg, Borough of, Indiana County | 420505 | March 7, 1977, Emerg; September 24, 1984, Reg; April 3, 2012, Susp. | ......do | Do.
Shelocta, Borough of, Indiana County | 420506 | October 7, 1975, Emerg; December 5, 1989, Reg; April 3, 2012, Susp. | ......do | Do.
South Mahoning, Township of, Indiana County | 422439 | June 28, 1979, Emerg; September 24, 1984, Reg; April 3, 2012, Susp. | ......do | Do.
Washington, Township of, Indiana County | 421722 | December 22, 1981, Emerg; April 16, 1990, Reg; April 3, 2012, Susp. | ......do | Do.
West Wheatfield, Township of, Indiana County | 421724 | May 13, 1977, Emerg; April 2, 1990, Reg; April 3, 2012, Susp. | ......do | Do.
White, Township of, Indiana County | 421725 | February 26, 1976, Emerg; May 19, 1987, Reg; April 3, 2012, Susp. | ......do | Do.
Young, Township of, Indiana County | 421726 | August 17, 1976, Emerg; August 1, 1986, Reg; April 3, 2012, Susp. | ......do | Do.
Region IV
Alabama:
Livingston, City of, Sumter County | 010195 | April 26, 1974, Emerg; August 15, 1980, Reg; April 3, 2012, Susp. | ......do | Do.
Sumter County, Unincorporated Areas. | 010194 | March 22, 1979, Emerg; August 1, 1987, Reg; April 3, 2012, Susp. | ......do | Do.
York, City of, Sumter County | 010196 | January 7, 1975, Emerg; August 1, 1980, Reg; April 3, 2012, Susp. | ......do | Do.
North Carolina:
Buncombe County, Unincorporated Areas. | 370031 | January 28, 1974, Emerg; August 1, 1980, Reg; April 3, 2012, Susp. | ......do | Do.
Canton, Town of, Haywood County | 370121 | July 2, 1973, Emerg; February 2, 1977, Reg; April 3, 2012, Susp. | ......do | Do.
Clyde, Town of, Haywood County | 370122 | May 20, 1974, Emerg; December 1, 1983, Reg; April 3, 2012, Susp. | ......do | Do.
Haywood County, Unincorporated Areas. | 370120 | June 9, 1975, Emerg; July 15, 1984, Reg; April 3, 2012, Susp. | ......do | Do.
Maggie Valley, Town of, Haywood County | 370389 | August 8, 1979, Emerg; April 17, 1984, Reg; April 3, 2012, Susp. | ......do | Do.
Waynesville, Town of, Haywood County | 370124 | July 2, 1975, Emerg; January 6, 1983, Reg; April 3, 2012, Susp. | ......do | Do.
Region V
Michigan:
Akron, Township of, Tuscola County | 260207 | October 14, 1975, Emerg; January 1, 1992, Reg; April 3, 2012, Susp. | ......do | Do.
Ann Arbor, Charter Township of, Washtenaw County | 260535 | September 26, 1977, Emerg; June 18, 1980, Reg; April 3, 2012, Susp. | ......do | Do.
Ann Arbor, City of, Washtenaw County | 260213 | April 19, 1973, Emerg; June 15, 1982, Reg; April 3, 2012, Susp. | ......do | Do.
Augusta, Township of, Washtenaw County | 260627 | August 12, 1975, Emerg; September 4, 1985, Reg; April 3, 2012, Susp. | ......do | Do.
Caro, City of, Tuscola County | 260597 | October 20, 2008, Emerg; August 14, 2009, Reg; April 3, 2012, Susp. | ......do | Do.
Columbia, Township of, Tuscola County | 261242 | August 30, 2010, Emerg; N/A, Reg; April 3, 2012, Susp. | ......do | Do.
Dexter, Township of, Washtenaw County | 260536 | August 16, 1976, Emerg; February 19, 1987, Reg; April 3, 2012, Susp. | ......do | Do.
Indianfields, Township of, Tuscola County | 260526 | October 29, 1982, Emerg; February 1, 1986, Reg; April 3, 2012, Susp. | ......do | Do.
Juniata, Township of, Tuscola County | 261007 | December 22, 1997, Emerg; N/A, Reg; April 3, 2012, Susp. | ......do | Do.
Manchester, Village of, Washtenaw County | 260316 | August 26, 1975, Emerg; June 15, 1982, Reg; April 3, 2012, Susp. | ......do | Do.
Northfield, Township of, Washtenaw County | 260635 | September 5, 1975, Emerg; November 16, 1990, Reg; April 3, 2012, Susp. | ......do | Do.
Novesta, Township of, Tuscola County | 261002 | October 27, 1997, Emerg; N/A, Reg; April 3, 2012, Susp. | ......do | Do.
Pittsfield, Charter Township of, Washtenaw County | 260623 | July 17, 1975, Emerg; August 2, 1982, Reg; April 3, 2012, Susp. | ......do | Do.
Salem, Township of, Washtenaw County | 260636 | September 5, 1975, Emerg; April 1, 1988, Reg; April 3, 2012, Susp. | ......do | Do.
Saline, City of, Washtenaw County | 260215 | May 19, 1975, Emerg; January 18, 1984, Reg; April 3, 2012, Susp. | ......do | Do.
Scio, Township of, Washtenaw County | 260537 | N/A, Emerg; August 28, 1989, Reg; April 3, 2012, Susp. | ......do | Do.
Superior, Township of, Washtenaw County | 260540 | December 21, 2010, Emerg; N/A, Reg; April 3, 2012, Susp. | ......do | Do.
Tuscola, Township of, Tuscola County | 260527 | June 16, 1986, Emerg; December 18, 1986, Reg; April 3, 2012, Susp. | ......do | Do.
Vassar, City of, Tuscola County | 260208 | December 19, 1973, Emerg; April 1, 1977, Reg; April 3, 2012, Susp. | ......do | Do.
Vassar, Township of, Tuscola County | 261012 | December 22, 1997, Emerg; N/A, Reg; April 3, 2012, Susp. | ......do | Do.
Wisner, Township of, Tuscola County | 260209 | May 21, 1973, Emerg; May 15, 1978, Reg; April 3, 2012, Susp. | ......do | Do.
York, Charter Township of, Washtenaw County | 260541 | October 29, 1998, Emerg; August 31, 2011, Reg; April 3, 2012, Susp. | ......do | Do.
Ypsilanti, Charter Township of, Washtenaw County | 260542 | March 20, 1978, Emerg; June 15, 1981, Reg; April 3, 2012, Susp. | ......do | Do.
Ypsilanti, City of, Washtenaw County | 260216 | May 8, 1975, Emerg; July 16, 1980, Reg; April 3, 2012, Susp. | ......do | Do.
Minnesota:
Dennison, City of, Rice County | 270713 | December 21, 1978, Emerg; September 18, 1985, Reg; April 3, 2012, Susp. | ......do | Do.
Dundas, City of, Rice County | 270403 | September 29, 1975, Emerg; April 15, 1982, Reg; April 3, 2012, Susp. | ......do | Do.
Faribault, City of, Rice County | 270404 | April 19, 1974, Emerg; November 1, 1978, Reg; April 3, 2012, Susp. | ......do | Do.
Hinckley, City of, Pine County | 270347 | September 20, 1974, Emerg; September 4, 1987, Reg; April 3, 2012, Susp. | ......do | Do.
Kingston, City of, Meeker County | 270284 | July 23, 1974, Emerg; July 3, 1985, Reg; April 3, 2012, Susp. | ......do | Do.
Litchfield, City of, Meeker County | 270285 | July 18, 1975, Emerg; February 15, 1991, Reg; April 3, 2012, Susp. | ......do | Do.
Meeker County, Unincorporated Areas. | 270280 | April 22, 1974, Emerg; September 1, 1988, Reg; April 3, 2012, Susp. | ......do | Do.
Morristown, City of, Rice County | 270405 | N/A, Emerg; August 16, 2011, Reg; April 3, 2012, Susp. | ......do | Do.
Pine City, City of, Pine County | 270348 | March 26, 1975, Emerg; December 1, 1981, Reg; April 3, 2012, Susp. | ......do | Do.
Pine County, Unincorporated Areas. | 270704 | N/A, Emerg; April 7, 1992, Reg; April 3, 2012, Susp. | ......do | Do.
Rice County, Unincorporated Areas. | 270646 | May 30, 1974, Emerg; February 4, 1981, Reg; April 3, 2012, Susp. | ......do | Do.
Rock Creek, City of, Pine County | 270349 | May 6, 1975, Emerg; July 6, 1984, Reg; April 3, 2012, Susp. | ......do | Do.
Sandstone, City of, Pine County | 270351 | May 14, 1975, Emerg; January 6, 1983, Reg; April 3, 2012, Susp. | ......do | Do.
Willow River, City of, Pine County | 270353 | April 26, 1974, Emerg; July 1, 1987, Reg; April 3, 2012, Susp. | ......do | Do.
Region VI
Louisiana:
Albany, Village of, Livingston Parish. | 220114 | October 14, 1983, Emerg; October 14, 1983, Reg; April 3, 2012, Susp. | ......do | Do.
Clinton, Town of, East Feliciana Parish. | 220249 | June 3, 1976, Emerg; December 4, 1979, Reg; April 3, 2012, Susp. | ......do | Do.
Denham Springs, City of, Livingston Parish. | 220116 | June 25, 1975, Emerg; October 15, 1981, Reg; April 3, 2012, Susp. | ......do | Do.
East Feliciana Parish, Unincorporated Areas. | 220364 | October 2, 2006, Emerg; N/A, Reg; April 3, 2012, Susp. | ......do | Do.
French Settlement, Village of, Livingston Parish. | 220117 | May 25, 1983, Emerg; October 15, 1985, Reg; April 3, 2012, Susp. | ......do | Do.
Jackson, Town of, East Feliciana Parish. | 220333 | February 26, 1976, Emerg; June 4, 1980, Reg; April 3, 2012, Susp. | ......do | Do.
Killian, Village of, Livingston Parish. | 220355 | October 26, 1977, Emerg; August 1, 1987, Reg; April 3, 2012, Susp. | ......do | Do.
Livingston, Town of, Livingston Parish. | 220118 | June 21, 1978, Emerg; April 15, 1979, Reg; April 3, 2012, Susp. | ......do | Do.
Livingston Parish, Unincorporated Areas. | 220113 | May 20, 1977, Emerg; September 30, 1988, Reg; April 3, 2012, Susp. | ......do | Do.
Norwood, Village of, East Feliciana Parish. | 220302 | N/A, Emerg; January 21, 2011, Reg; April 3, 2012, Susp. | ......do | Do.
Port Vincent, Village of, Livingston Parish. | 220119 | May 17, 1977, Emerg; August 16, 1988, Reg; April 3, 2012, Susp. | ......do | Do.
Slaughter, Town of, East Feliciana Parish. | 220259 | October 4, 2007, Emerg; N/A, Reg; April 3, 2012, Susp. | ......do | Do.
Springfield, Town of, Livingston Parish. | 220120 | N/A, Emerg; March 24, 1998, Reg; April 3, 2012, Susp. | ......do | Do.
Walker, Town of, Livingston Parish. | 220121 | June 26, 1975, Emerg; February 17, 1982, Reg; April 3, 2012, Susp. | ......do | Do.
Oklahoma:
Alex, Town of, Grady County | 400063 | August 20, 1976, Emerg; February 2, 1983, Reg; April 3, 2012, Susp. | ......do | Do.
Altus, City of, Jackson County | 400072 | February 20, 1975, Emerg; July 2, 1980, Reg; April 3, 2012, Susp. | ......do | Do.
Bessie, Town of, Washita County | 400261 | July 21, 1983, Emerg; May 1, 1985, Reg; April 3, 2012, Susp. | ......do | Do.
Blair, Town of, Jackson County | 400348 | November 22, 1976, Emerg; August 3, 1982, Reg; April 3, 2012, Susp. | ......do | Do.
Blanchard, City of, Grady County | 400101 | February 17, 1976, Emerg; January 3, 1986, Reg; April 3, 2012, Susp. | ......do | Do.
Catoosa, City of, Rogers County | 400185 | January 8, 1976, Emerg; August 1, 1980, Reg; April 3, 2012, Susp. | ......do | Do.
Chelsea, City of, Rogers County | 400187 | March 18, 1986, Emerg; September 1, 1987, Reg; April 3, 2012, Susp. | ......do | Do.
Chickasha, City of, Grady County | 400234 | January 15, 1974, Emerg; September 30, 1980, Reg; April 3, 2012, Susp. | ......do | Do.
Claremore, City of, Rogers County | 405375 | November 6, 1970, Emerg; August 27, 1971, Reg; April 3, 2012, Susp. | ......do | Do.
Clinton, City of, Washita County | 400054 | November 25, 1974, Emerg; July 2, 1980, Reg; April 3, 2012, Susp. | ......do | Do.
Collinsville, City of, Rogers County | 400360 | November 21, 1975, Emerg; July 2, 1981, Reg; April 3, 2012, Susp. | ......do | Do.
Colony, Town of, Washita County | 400253 | September 10, 1984, Emerg; September 10, 1984, Reg; April 3, 2012, Susp. | ......do | Do.
Corn, Town of, Washita County | 400225 | November 22, 2002, Emerg; N/A, Reg; April 3, 2012, Susp. | ......do | Do.
Elmore City, City of, Garvin County | 400374 | December 19, 1977, Emerg; July 20, 1982, Reg; April 3, 2012, Susp. | ......do | Do.
Granite, Town of, Greer County | 400066 | September 17, 1975, Emerg; May 25, 1978, Reg; April 3, 2012, Susp. | ......do | Do.
Greer County, Unincorporated Areas. | 400544 | October 3, 1994, Emerg; N/A, Reg; April 3, 2012, Susp. | ......do | Do.
Harmon County, Unincorporated Areas. | 400545 | January 27, 1995, Emerg; N/A, Reg; April 3, 2012, Susp. | ......do | Do.
Hollis, City of, Harmon County | 400068 | June 18, 1975, Emerg; August 5, 1985, Reg; April 3, 2012, Susp. | ......do | Do.
Inola, Town of, Rogers County | 400456 | April 5, 1976, Emerg; July 16, 1987, Reg; April 3, 2012, Susp. | ......do | Do.
Jackson County, Unincorporated Areas. | 400480 | May 31, 1995, Emerg; June 16, 1999, Reg; April 3, 2012, Susp. | ......do | Do.
Lindsay, City of, Garvin County | 400245 | February 26, 1975, Emerg; January 6, 1983, Reg; April 3, 2012, Susp. | ......do | Do.
Mangum, City of, Greer County | 400067 | June 4, 1975, Emerg; May 29, 1979, Reg; April 3, 2012, Susp. | ......do | Do.
Maysville, Town of, Garvin County | 400402 | February 27, 1978, Emerg; September 30, 1981, Reg; April 3, 2012, Susp. | ......do | Do.
New Cordell, City of, Washita County | 400224 | July 7, 1975, Emerg; May 2, 1983, Reg; April 3, 2012, Susp. | ......do | Do.
Ninnekah, Town of, Grady County | 405382 | January 12, 1984, Emerg; February 15, 1985, Reg; April 3, 2012, Susp. | ......do | Do.
Olustee, Town of, Jackson County | 400430 | November 16, 1976, Emerg; August 3, 1982, Reg; April 3, 2012, Susp. | ......do | Do.
Oologah, Town of, Rogers County | 400189 | June 16, 1978, Emerg; March 1, 1987, Reg; April 3, 2012, Susp. | ......do | Do.
Owasso, City of, Rogers County | 400210 | April 26, 1974, Emerg; July 2, 1981, Reg; April 3, 2012, Susp. | ......do | Do.
Paoli, Town of, Garvin County | 400317 | December 2, 2004, Emerg; N/A, Reg; April 3, 2012, Susp. | ......do | Do.
Pauls Valley, City of, Garvin County | 400246 | December 9, 1976, Emerg; September 17, 1980, Reg; April 3, 2012, Susp. | ......do | Do.
Rogers County, Unincorporated Areas. | 405379 | November 6, 1970, Emerg; November 5, 1971, Reg; April 3, 2012, Susp. | ......do | Do.
Rush Springs, Town of, Grady County | 400064 | May 1, 1975, Emerg; July 3, 1985, Reg; April 3, 2012, Susp. | ......do | Do.
Sentinel, Town of, Washita County | 400442 | July 15, 1983, Emerg; July 3, 1985, Reg; April 3, 2012, Susp. | ......do | Do.
Stratford, Town of, Garvin County | 400416 | January 26, 1978, Emerg; November 15, 1985, Reg; April 3, 2012, Susp. | ......do | Do.
Tulsa, City of, Rogers County | 405381 | November 20, 1970, Emerg; August 13, 1971, Reg; April 3, 2012, Susp. | ......do | Do.
Tuttle, City of, Grady County | 400443 | February 10, 1987, Emerg; November 1, 1989, Reg; April 3, 2012, Susp. | ......do | Do.
Verden, Town of, Grady County | 400248 | August 19, 1976, Emerg; October 26, 1982, Reg; April 3, 2012, Susp. | ......do | Do.
Washita County, Unincorporated Areas. | 400223 | December 6, 1993, Emerg; N/A, Reg; April 3, 2012, Susp. | ......do | Do.
Wynnewood, City of, Garvin County | 400251 | March 24, 1978, Emerg; January 15, 1988, Reg; April 3, 2012, Susp. | ......do | Do.
Texas:
Atlanta, City of, Cass County | 480117 | June 20, 1974, Emerg; May 19, 1981, Reg; April 3, 2012, Susp. | ......do | Do.
Bloomburg, Town of, Cass County | 480732 | August 25, 2010, Emerg; N/A, Reg; April 3, 2012, Susp. | ......do | Do.
Cass County, Unincorporated Areas. | 480730 | July 12, 2001, Emerg; October 1, 2007, Reg; April 3, 2012, Susp. | ......do | Do.
Castroville, City of, Medina County | 480932 | December 22, 1975, Emerg; May 1, 1979, Reg; April 3, 2012, Susp. | ......do | Do.
Devine, City of, Medina County | 480690 | November 14, 1973, Emerg; April 15, 1977, Reg; April 3, 2012, Susp. | ......do | Do.
Domino, Town of, Cass County | 481515 | N/A, Emerg; March 24, 2010, Reg; April 3, 2012, Susp. | ......do | Do.
Grimes County, Unincorporated Areas. | 481173 | July 10, 1978, Emerg; August 1, 1988, Reg; April 3, 2012, Susp. | ......do | Do.
Hondo, City of, Medina County | 480474 | July 10, 1975, Emerg; December 1, 1978, Reg; April 3, 2012, Susp. | ......do | Do.
Hughes Springs, City of, Cass County | 480734 | July 1, 1991, Emerg; January 1, 1992, Reg; April 3, 2012, Susp. | ......do | Do.
Navasota, City of, Grimes County | 480265 | March 17, 1977, Emerg; February 4, 1988, Reg; April 3, 2012, Susp. | ......do | Do.
Queen City, City of, Cass County | 481117 | October 5, 2010, Emerg; N/A, Reg; April 3, 2012, Susp. | ......do | Do.
*-do-=Ditto.
Code for reading third column: Emerg.—Emergency; Reg.—Regular; Susp.—Suspension.

Dated: March 26, 2012.
David L. Miller,
Associate Administrator, Federal Insurance and Mitigation Administration, Department of Homeland Security, Federal Emergency Management Agency.

[FR Doc. 2012-7752 Filed 3-30-12; 8:45 am]

BILLING CODE 9110-12-P